Title 3—

The President

Proclamation 8320 of November 19, 2008

National Farm-City Week, 2008

By the President of the United States of America

A Proclamation

Farmers and ranchers display the values of hard work and good stewardship, and National Farm-City Week is an opportunity to recognize these individuals and their urban partners for contributing to our Nation's well-being.

Farming, America's first industry, helps feed and clothe our citizens and increasingly provides more of our energy. The agricultural sector also employs more than a million people across our Nation. Farming has been a cornerstone of our country since its founding and continues to be a vital part of our economy.

Our farmers and ranchers provide a safe, healthy, and abundant food supply, yet they could not succeed in doing so without essential partnerships with urban communities to supply, sell, and deliver finished products across our country and around the world. These cooperative efforts help to create a prosperous future for our citizens and people everywhere.

Since 2001, my Administration has been committed to strengthening our agricultural sector, and we have worked to create an environment that will stimulate growth by opening new markets, encouraging free and fair trade, and keeping taxes low. As we celebrate this week, we recognize the vital work of farmers and ranchers, and we pay tribute to all those who strengthen the relationships between our rural and urban communities.

NOW, THEREFORE, I, GEORGE W. BUSH, President of the United States of America, by virtue of the authority vested in me by the Constitution and laws of the United States, do hereby proclaim November 21 through November 27, 2008, as National Farm-City Week. I encourage all Americans to join in recognizing farmers, ranchers, and all those who contribute to the strength of America's agricultural industry.

IN WITNESS WHEREOF, I have hereunto set my hand this nineteenth day of November, in the year of our Lord two thousand eight, and of the Independence of the United States of America the two hundred and thirty-third.

[FR Doc. E8-28002

Filed 11-21-08; 8:45 am]

Billing code 3195-W9-P